DEPARTMENT OF LABOR

Employment and Training Administration

[TA-W-58,910; TA-W-58,910A]

Joan Fabrics Corporation Mastercraft Sales and Design, Fall River, MA; Including Employees of Joan Fabrics Corporation Mastercraft and Sales and Design, Fall River, MA, Located In New York, NY; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on March 17, 2006, applicable to workers of Joan Fabrics Corporation, Mastercraft Sales and Design, Fall River, Massachusetts. The notice was published in the Federal Register on April 13, 2006 (71 FR 19209).

At the request of the State agency and company officials, the Department reviewed the certification for workers of the subject firm. New information shows that worker separations have occurred involving employees of the Fall River, Massachusetts facility of Joan Fabrics Corporation, Mastercraft Sales and Design who are located in New York, New York.

Ms. Jeanne Chun, Ms. Kerry Burke and Ms. Alicia Harvin provided sales and designing function services for the Mastercraft Sales and Design of the Fall River, Massachusetts location of the subject firm.

Based on these findings, the Department is amending this certification to include employees of the Fall River, Massachusetts facility of Joan Fabrics, Mastercraft Sales and Design who are located in New York, New York.

The intent of the Department's certification is to include all workers of Joan Fabrics Corporation, Mastercraft Sales and Design, Fall River, Massachusetts who were adversely affected by shift in production to Mexico by Joan Fabrics Corporation.

The amended notice applicable to TA-W-58,910 is hereby issued as follows:

All workers of Joan Fabrics Corporation, Mastercraft Sales and Design (TA-W-58,910), including employees in support of Joan Fabrics Corporation, Mastercraft Sales and Design, Fall River, Massachusetts located in New York, New York (TA-W-58,910A), who became totally or partially separated from employment on or after February 21, 2005, through March 17, 2008, are eligible to apply for adjustment assistance under Section 223 of the Trade Act of 1974 and are also eligible to apply for alternative trade adjustment assistance under Section 246 of the Trade Act of 1974.

Signed at Washington, DC this 27th day of August 2007.
Linda G. Poole,
Certifying Officer, Division of Trade Adjustment Assistance.

[FR Doc. E7-17471 Filed 9-4-07; 8:45 am]

BILLING CODE 4510-FN-P